SMALL BUSINESS ADMINISTRATION

Reporting and Recordkeeping Requirements Under OMB Review

AGENCY: Small Business Administration.

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before October 29, 2020.

ADDRESSES: Comments should refer to the information collection by title and/or OMB Control Number and should be sent to: Agency Clearance Officer, Curtis Rich, Small Business Administration, 409 3rd Street SW, 5th Floor, Washington, DC 20416; and SBA Desk Officer, Office of Information and Regulatory Affairs, Office of Management and Budget, New Executive Office Building, Washington, DC 20503.

FOR FURTHER INFORMATION CONTACT: Curtis Rich, Agency Clearance Officer, (202) 205-7030, curtis.rich@sba.gov.

SUPPLEMENTARY INFORMATION:

Copies: You may obtain a copy of the information collection and supporting documents from the Agency Clearance Officer.

The SBA secondary market is an evolving 36.9 billion dollar market designed to facilitate the availability of capital to lenders serving the small business community. Pursuant to section 5(h)(1)(C) of the Small Business Act, 15 U.S.C. 634(h)(1)(C), when a secondary market loan is transferred from one investor to another, the sellers of the loan or pool certificate must disclose to certain information to the buyer. This information includes a constant annual prepayment rate based on the seller's analysis pf prepayment histories of SBA guaranteed loans with similar maturities, and also information regarding the terms, conditions and yield of the transferred security.

Title: Form of Detached Assignment for U.S. Small Business Administration Loan Pool or Guaranteed Interest Certificate.

OMB Control Number: 3245-0212.

Description of Respondents: Secondary Market Lenders.

Estimated Annual Responses: 7,500.

Estimated Annual Hour Burden: 11,250.

Curtis Rich,
Management Analyst.

[FR Doc. 2020-21445 Filed 9-28-20; 8:45 am]

BILLING CODE 8026-03-P